DEPARTMENT OF EDUCATION

34 CFR Chapter III

Proposed Priorities—National Institute on Disability and Rehabilitation Research—Disability and Rehabilitation Research Projects and Centers Program—Rehabilitation Engineering Research Centers

AGENCY: Office of Special Education and Rehabilitative Services, Department of Education.

ACTION: Proposed priorities.

[CFDA Numbers: 84.133E-5, 84.133E-6, 84.133E-7, and 84.133E-8.]

SUMMARY: The Assistant Secretary for Special Education and Rehabilitative Services proposes four priorities for the Disability and Rehabilitation Research Projects and Centers Program administered by the National Institute on Disability and Rehabilitation Research (NIDRR). Specifically, this notice proposes a priority for a Rehabilitation Engineering Research Center (RERC) on each of: Rehabilitation Strategies, Techniques, and Interventions (priority 1); Information and Communication Technologies (priority 2); Individual Mobility and Manipulation (priority 3); and Physical Access and Transportation (priority 4). The Assistant Secretary may use one or more of these priorities for competitions in fiscal year (FY) 2013 and later years. We take this action to focus research attention on areas of national need. We intend the priorities to improve rehabilitation services and outcomes for individuals with disabilities.

DATES: We must receive your comments on or before April 8, 2013.

ADDRESSES: Address all comments about this notice to Marlene Spencer, U.S. Department of Education, 400 Maryland Avenue SW., Room 5133, Potomac Center Plaza (PCP), Washington, DC 20202-2700.

If you prefer to send your comments by email, use the following address: marlene.spencer@ed.gov. You must include “Proposed Priorities for RERCs” and the priority title in the subject line of your electronic message.

FOR FURTHER INFORMATION CONTACT: Marlene Spencer. Telephone: (202) 245-7532 or by email: marlene.spencer@ed.gov.

If you use a telecommunications device for the deaf (TDD) or a text telephone (TTY), call the Federal Relay Service (FRS), toll free, at 1-800-877-8339.

SUPPLEMENTARY INFORMATION: This notice of proposed priorities is in concert with NIDRR's approved Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training methods to facilitate the advancement of knowledge and understanding of the unique needs of traditionally underserved populations; (3) determine best strategies and programs to improve rehabilitation outcomes for underserved populations; (4) identify research gaps; (5) identify mechanisms for integrating research and practice; and (6) disseminate findings.

This notice proposes four priorities, each of which NIDRR intends to use for one or more RERC competitions in FY 2013 and possibly in later years. However, nothing precludes NIDRR from publishing additional priorities, if needed. Furthermore, NIDRR is under no obligation to make an award using these priorities. The decision to make an award will be based on the quality of applications received and available funding.

Invitation to Comment: We invite you to submit comments regarding this notice. To ensure that your comments have maximum effect in developing the notice of final priorities, we urge you to identify clearly the specific topic that each comment addresses.

We invite you to assist us in complying with the specific requirements of Executive Orders 12866 and 13563 and their overall requirement of reducing regulatory burden that might result from these proposed priorities. Please let us know of any further ways we could reduce potential costs or increase potential benefits while preserving the effective and efficient administration of the program.

During and after the comment period, you may inspect all public comments about this notice in room 5140, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Engineering Research Centers (RERCs) Program

The purpose of NIDRR's RERCs program, which is funded through the Disability and Rehabilitation Research Projects and Centers Program, is to improve the effectiveness of services authorized under the Rehabilitation Act. It does so by conducting advanced engineering research, developing and evaluating innovative technologies, facilitating service delivery system changes, stimulating the production and distribution of new technologies and equipment in the private sector, and providing training opportunities. RERCs seek to solve rehabilitation problems and remove environmental barriers to improvements in employment, community living and participation, and health and function outcomes of individuals with disabilities.

The general requirements for RERCs are set out in subpart D of 34 CFR part 350 (What Rehabilitation Engineering Research Centers Does the Secretary Assist?).

Additional information on the RERCs program can be found at: www.ed.gov/rschstat/research/pubs/index.html.

Program Authority: 29 U.S.C. 762(g) and 764(b)(3).

Applicable Program Regulations: 34 CFR part 350.

Proposed Priorities

This notice contains four proposed priorities. These include a priority for a RERC on ech of: Rehabilitation Strategies, Techniques, and Interventions (priority 1); Information and Communication Technologies (priority 2); Individual Mobility and Manipulation (priority 3); and Physical Access and Transportation (priority 4).

Background

NIDRR's mission is to generate new knowledge and promote its effective use to improve the abilities of people with disabilities to perform activities of their choice in the community, and also to expand society's capacity to provide full opportunities and accommodations for its citizens with disabilities (NIDRR Long-Range Plan, 2006). In support of this mission, NIDRR sponsors RERCs to address the barriers confronted by individuals with disabilities in all aspects of their lives.

NIDRR-sponsored RERCs engage in the systematic application of engineering sciences to design, develop, adapt, test, evaluate, apply, and distribute technological solutions to problems confronted by individuals with disabilities in functional areas, such as mobility, communications, hearing, vision, and cognition, and in activities associated with employment, independent living, education, and integration into the community (Rehabilitation Act of 1973). RERCs may focus their efforts at the individual level, for example, to develop assistive technology devices that enhance the physical, sensory, and cognitive abilities of individuals with disabilities. RERCs may also focus on the systems level, for example, by mitigating or eliminating barriers found in large social systems such as public transportation, telecommunications, information technology, and the built environment. RERCs conduct research and development that leads to the transfer of technology into commercialized or non-commercialized products that can be readily accessed and used to improve the lives of individuals with disabilities.

NIDRR seeks to establish RERCs that will address topics in four broad areas of rehabilitation engineering. These four areas, outlined in NIDRR's proposed Long-Range Plan for 2013-2017 (NIDRR Long-Range Plan, 2013), include: (1) Rehabilitation strategies, techniques, and interventions; (2) information and communication technologies; (3) individual mobility and manipulation; and (4) physical access and transportation. By holding field-initiated RERC grant competitions in these four broad areas, we aim to increase competition for NIDRR's RERC grants, and draw upon the field's expertise, knowledge, and creativity to optimize the quality and relevance of the rehabilitation engineering grants that we fund.

In the area of rehabilitation strategies, techniques, and interventions (priority 1), NIDRR seeks to fund research and development that leads to rehabilitation practices and services that improve the health, and the physical, cognitive, sensory, and communication abilities, of individuals with a wide range of disabling conditions. Rehabilitation engineering in this area should result in new or improved products, devices, and technological advances that enhance rehabilitation services in clinical or community settings. In this broad area, NIDRR has previously funded RERCs on successful aging, low vision and blindness, hearing enhancement, communication enhancement, cognitive technologies, recreational technologies, rehabilitation robotics, and telerehabilitation, among others.

In the area of information and communication technologies (priority 2), NIDRR seeks to fund research and development that reduces the digital divide between people with and without disabilities (Vicente & Lopez, 2010). Rehabilitation engineering in this area should optimize accessibility and usability of telecommunications products, wireless technologies, technology interfaces, computer systems, software, and networks for individuals with disabilities. In this broad area, NIDRR has previously funded RERCs on universal interface and information technology access, wireless technologies, and telecommunications access, among others.

In the area of individual mobility and manipulation (priority 3), NIDRR seeks to fund research and development to enhance mobility, physical movement, and manipulation of the environment, and to accommodate limitations in manual dexterity among individuals with a variety of disabling conditions. Rehabilitation engineering in this area should result in new or improved products, devices, or technological advances to allow individuals with disabilities to be more mobile and to manipulate their environments more easily and effectively, increasing the independence of individuals with disabilities and allowing them to participate fully in their communities. In this broad area, NIDRR has previously funded RERCs on prosthetics and orthotics, wheeled mobility, and children with orthopedic disabilities, among others.

In the area of physical access and transportation (priority 4), NIDRR seeks to fund research and development that leads to greater accessibility of the built environment and better access to safe and accessible transportation options for individuals with disabilities. There is a need for more accessibility in commercial and private facilities, outdoor environments, and housing to increase independence and promote community integration for individuals with disabilities. In addition, easy-to-use, safe, and accessible transportation systems allow individuals with disabilities to move around, and participate more fully, in their communities and neighborhoods. Rehabilitation engineering in this area should result in the continued promotion of universal design and the planning of accessible buildings, parks, neighborhoods, transportation options, and cities. In this broad area, NIDRR has previously funded RERCs on accessible medical instrumentation, workplace accommodations, universal design in the built environment, accessible public transportation, and wheelchair transportation safety, among others.

References

NIDRR (2006). Notice of Final Long-Range Plan. 71 FR 8165. Available at: www.ed.gov/about/offices/list/osers/nidrr/policy.html.

NIDRR (2013). Notice of Proposed Long-Range Plan. 77 FR 23231. Available at: www.gpo.gov/fdsys/pkg/FR-2012-04-18/html/2012-9365.htm.

Rehabilitation Act of 1973, PL 93-112.

Vicente, M. R., & Lopez, A. J. (2010). A multidimensional analysis of the disability digital divide: Some evidence for Internet use. The Information Society, 26(1), 48-64.

Proposed Priorities

The Assistant Secretary for Special Education and Rehabilitative Services proposes the following priorities for the establishment of a Rehabilitation Engineering Research Center (RERC) on each of: (1) Rehabilitation Strategies, Techniques, and Interventions; (2) Information and Communication Technologies; (3) Individual Mobility and Manipulation; and (4) Physical Access and Transportation. Each RERC will focus on innovative technological solutions, new knowledge, and concepts that will improve the lives of individuals with disabilities.

Proposed Priority 1—RERC on Rehabilitation Strategies, Techniques, and Interventions

Under this priority, the RERC must research, develop, and evaluate innovative technologies and strategies that will result in new or improved products, devices, and technological advances that are integrated into rehabilitation services in clinical or community settings. The RERC must be designed to improve outcomes of individuals with disabilities in one or more of the following domains: Employment, community living and participation, or health and function. Research and development topics under this priority may include but are not limited to: Virtual reality; therapy robots; telerehabilitation; recreational technology; health-related products and equipment; and cognitive, sensory, and communication aids.

Proposed Priority 2—RERC on Information and Communication Technologies

Under this priority, the RERC must research, develop, and evaluate innovative technologies and strategies that will optimize accessibility and usability of one or more of the following: Telecommunications products, wireless technologies, technology interfaces, computer systems, software, and networks for individuals with disabilities. The RERC must be designed to improve outcomes of individuals with disabilities in one or more of the following domains: Employment, community living and participation, or health and function. Research and development topics under this priority may include but are not limited to: Telecommunication access in emergency situations; interoperability between current and next generation telecommunication access; access to and use of wireless technologies; universal design approaches in future generations of wireless technologies; and accessibility of information technologies and electronic products by people with disabilities.

Proposed Priority 3—RERC on Individual Mobility and Manipulation

Under this priority, the RERC must research, develop, and evaluate innovative technologies and strategies that will result in new or improved products, devices, or technological advances that allow individuals with disabilities to be more mobile and to manipulate their environments more efficiently and effectively. The RERC must be designed to improve outcomes of individuals with disabilities in one or more of the following domains: Employment, community living and participation, or health and function. Research and development topics under this priority may include but are not limited to: Equipment for personal mobility; assistive technology for manipulation; and prosthetics and orthotics.

Proposed Priority 4—RERC on Physical Access and Transportation

Under this priority, the RERC must research, develop, and evaluate innovative technologies and strategies that will result in one or more of the following: The continued promotion of universal design and the planning of accessible buildings, homes, parks, neighborhoods, and cities, or the accessibility and safety of transportation options. The RERC must be designed to improve outcomes of individuals with disabilities in one or more of the following domains: Employment, community living and participation, or health and function. Research and development topics under this priority may include but are not limited to: Design and modification of the built environment; and the accessibility, safety, affordability and independent use of transportation options (including public transportation, commercial transportation, and personal vehicles).

Requirements Applicable to All Four Proposed Priorities

Under each priority, the RERC must be designed to contribute to the following outcomes:

(1) Increased technical and scientific knowledge relevant to its research area. The RERC must contribute to this outcome by conducting high-quality, rigorous research and development projects.

(2) Increased innovation in technologies, products, environments, performance guidelines, and monitoring and assessment tools applicable to its research area. The RERC must contribute to this outcome through the development and testing of these innovations.

(3) Improved research capacity in its research area. The RERC must contribute to this outcome by collaborating with the relevant industry, professional associations, institutions of higher education, health care providers, or educators, as appropriate.

(4) Improved usability and accessibility of products and environments in its research area. The RERC must contribute to this outcome by emphasizing the principles of universal design in its product research and development. For this purpose, “universal design” means the design of products and environments to be usable by all people, to the greatest extent possible, without the need for adaptation or specialized design.

(5) Improved awareness and understanding of cutting-edge developments in technologies within its research area. The RERC must contribute to this outcome by identifying and communicating with relevant stakeholders, including NIDRR, individuals with disabilities, their representatives, disability organizations, service providers, professional journals, manufacturers, and other interested parties regarding trends and evolving product concepts related to its research area.

(6) Increased dissemination of research in the research area. The RERC must contribute to this outcome by providing technical assistance to relevant public and private organizations, individuals with disabilities, employers, and schools on policies, guidelines, and standards related to its research area.

(7) Increased transfer of RERC-developed technologies to the marketplace. The RERC must contribute to this outcome by developing and implementing a plan for ensuring that all technologies developed by the RERC are made available to the public. The technology transfer plan must be developed in the first year of the project period in consultation with the NIDRR-funded Disability Rehabilitation Research Project, Center on Knowledge Translation for Technology Transfer.

In addition, under each priority, the RERC must—

• Have the capability to design, build, and test prototype devices and assist in the technology transfer and knowledge translation of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, a plan to disseminate its research results to individuals with disabilities and their representatives; disability organizations; service providers; professional journals; manufacturers; and other interested parties. In meeting this requirement, each RERC may use a variety of mechanisms to disseminate information, including state-of-the-science conferences, webinars, Web sites, and other dissemination methods; and

• Coordinate research projects of mutual interest with relevant NIDRR-funded projects, as identified through consultation with the NIDRR project officer.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priorities

We will announce the final priorities in a notice in the Federal Register. We will determine the final priorities after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities only upon a reasoned determination that their benefits would justify their costs. In choosing among alternative regulatory approaches, we selected those approaches that would maximize net benefits. Based on the analysis that follows, the Department believes that these proposed priorities are consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to the RERCs have been completed successfully, and the new RERCs, established consistently with the proposed priorities, are expected to improve the lives of individuals with disabilities and generate through research and development, disseminate, and promote the use of new information that would improve the outcomes for individuals with disabilities in the areas of community living and participation, employment, and health and function.

Intergovernmental Review: This program is not subject to Executive Order 12372 and the regulations in 34 CFR part 79.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 5, 2013.
Michael Yudin,
Acting Assistant Secretary for Special Education and Rehabilitative Services.

[FR Doc. 2013-05490 Filed 3-7-13; 8:45 am]

BILLING CODE 4000-01-P